NATIONAL AERONAUTICS AND SPACE ADMINISTRATION

[Notice: (10-077)]

NASA Advisory Council; Exploration Committee; Meeting

AGENCY: National Aeronautics and Space Administration.

ACTION: Notice of meeting.

SUMMARY: In accordance with the Federal Advisory Committee Act, Public Law 92-463, as amended, the National Aeronautics and Space Administration announces a meeting of the Exploration Committee of the NASA Advisory Council.

DATES: Tuesday, August 3, 2010, 8 a.m.-6:15 p.m., and Wednesday, August 4, 2010, 8 a.m.-11:30 a.m. (All times are p.d.t.)

ADDRESSES: NASA Jet Propulsion Laboratory, 4800 Oak Grove Drive, Pasadena, California 91109—Building 180, Room 101 (August 3, 8 a.m.-12 p.m. and August 4, 8 a.m.- 11:30 a.m.); and von Karman Auditorium (August 3, 1 a.m.-6:15 p.m.)

FOR FURTHER INFORMATION CONTACT: Ms. Jane Parham, Exploration, Exploration Systems Mission Directorate, National Aeronautics and Space Administration Headquarters, 300 E Street SW., Washington, DC 20546, (202) 358-1715; jane.parham@nasa.gov.

SUPPLEMENTARY INFORMATION: The agenda topics for the meeting will include:

• Exploration, Constellation, and Human Research Programs Status.

• Heavy Lift and Propulsion Technology.

• International Space Cooperation and Other Partnerships.

• Joint Session with NASA Advisory Council Technology & Innovation Committee: Human Exploration Framework Team (HEFT), Cross-Cutting Capability Demonstration Missions, and NASA New Technology Initiatives.

The meeting will be open to the public up to the seating capacity of the room. It is imperative that the meeting be held on these dates to accommodate the scheduling priorities of the key participants. For the sessions in Building 180, Room 101, (i.e., August 3 and 4 morning sessions), visitors will need to sign in and show a valid government-issued picture identification such as driver's license or passport to enter the Jet Propulsion Laboratory campus, and must state they are attending the NASA Advisory Council Exploration Committee meeting in Building 180, Room 101. No later than July 20, 2010, all non-U.S. citizens must submit the following information to Ms. Jane Parham, Room 7C27, NASA Headquarters, 300 E Street, SW., Washington, DC 20546; fax (202) 358-3406: Name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date.

For questions, please call Jane Parham at (202) 358-1715.

Dated: July 8, 2010.
P. Diane Rausch,
Advisory Committee Management Officer, National Aeronautics and Space Administration.

[FR Doc. 2010-17063 Filed 7-13-10; 8:45 am]

BILLING CODE P